DEPARTMENT OF TRANSPORTATION

Federal Aviation Administration

14 CFR Part 39

[Docket No. 2001-NM-206-AD]

RIN 2120-AA64

Airworthiness Directives; McDonnell Douglas Model DC-9-10, -20, -30, -40, and -50 Series Airplanes; Model DC-9-81, -82, -83, and -87 Series Airplanes; Model MD-88 Airplanes; and C-9 Airplanes

AGENCY: Federal Aviation Administration, DOT.

ACTION: Notice of proposed rulemaking (NPRM).

SUMMARY: This document proposes the supersedure of an existing airworthiness directive (AD), applicable to certain McDonnell Douglas Model DC-9-10, -20, -30, -40, and -50 series airplanes; Model DC-9-81, -82, -83, and -87 series airplanes; Model MD-88 airplanes; and C-9 airplanes; that currently requires repetitive inspections to detect cracking of the rudder pedal adjuster hub assembly, and replacement of the assembly, if necessary. That AD also provides for an optional terminating action for the repetitive inspections. This action would require accomplishment of a new terminating action for the repetitive inspections. This proposal is prompted by that FAA's determination that further rulemaking is necessary. The actions specified by the proposed AD are intended to prevent loss of rudder pedal control and reduction of braking capability.

DATES: Comments must be received by September 6, 2001.

ADDRESSES: Submit comments in triplicate to the Federal Aviation Administration (FAA), Transport Airplane Directorate, ANM-114, Attention: Rules Docket No. 2001-NM-206-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 2001-NM-206-AD” in the subject line and need not be submitted in triplicate. Comments sent via the Internet as attached electronic files must be formatted in Microsoft Word 97 for Windows or ASCII text.

The service information referenced in the proposed rule may be obtained from Boeing Commercial Aircraft Group, Long Beach Division, 3855 Lakewood Boulevard, Long Beach, California 90846, Attention: Data and Service Management, Dept. C1-L5A (D800-0024). This information may be examined at the FAA, Transport Airplane Directorate, 1601 Lind Avenue, SW., Renton, Washington.

FOR FURTHER INFORMATION CONTACT: Wahib Mina, Aerospace Engineer, Airframe Branch, ANM-120L, FAA, Los Angeles Aircraft Certification Office, 3960 Paramount Boulevard, Lakewood, California 90712; telephone (562) 627-5324; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-206-AD.” The postcard will be date stamped and returned to the commenter.

Availability of NPRMs

Any person may obtain a copy of this NPRM by submitting a request to the FAA, Transport Airplane Directorate, ANM-114, Attention: Rules Docket No. 2001-NM-206-AD, 1601 Lind Avenue, SW., Renton, Washington 98055-4056.

Background

In July 1996, a Boeing Model 747 series airplane was involved in an accident. As part of re-examining all aspects of the service experience of the airplane involved in the accident, the FAA participated in design review and testing to determine possible sources of ignition in center fuel tanks. As part of the review, we examined fuel system wiring with regard to the possible effects that wire degradation may have on arc propagation.

In 1997 in a parallel preceding, at the recommendation of the White House Commission on Aviation Safety and Security, the FAA expanded its Aging Transport Program to include non-structural systems and assembled a team for evaluating these systems. This team performed visual inspections of certain transport category airplanes for which 20 years or more had passed since date of manufacture. In addition, the team gathered information from interviews with FAA Principal Maintenance Inspectors and meetings with representatives of airplane manufacturers. This evaluation revealed that the length of time in service is not the only cause of wire degradation; inadequate maintenance, contamination, improper repair, and mechanical damage are all contributing factors. From the compilation of this comprehensive information, we developed the Aging Transport Non-Structural Systems Plan to increase airplane safety by increasing knowledge of how non-structural systems degrade and how causes of degradation can be reduced.

In 1998, an accident occurred off the coast of Nova Scotia involving a McDonnell Douglas Model MD-11 series airplane. Investigation indicates that a fire broke out in the cockpit and first class overhead area. Although the ignition source of the fire has not been determined, the FAA, in conjunction with Boeing and operators of Model MD-11, DC-8, DC-9, DC-10, and DC-9-80 series airplanes, is reviewing all aspects of the service history of those airplanes to identify potential unsafe conditions associated with wire degradation due to various contributing factors (e.g., inadequate maintenance, contamination, improper repair, and mechanical damage) and to take appropriate corrective actions. We have issued a series of airworthiness directives (AD) that address unsafe conditions identified during that process. This process is continuing and we may consider additional rulemaking actions as further results of the review become available. The cause of the Nova Scotia MD-11 accident has not yet been determined.

In 1999, the FAA Administrator established a formal advisory committee to facilitate the implementation of the Aging Transport Non-Structural Systems Plan. This committee, the Aging Transport Systems Rulemaking Advisory Committee (ATSRAC), is made up of representatives of airplane manufacturers, operators, user groups, aerospace and industry associations, and government agencies. As part of its mandate, ATSRAC will recommend rulemaking to increase transport category airplane safety in cases where solutions to safety problems connected to aging systems have been found and must be applied. Detailed analyses of certain transport category airplanes that have been removed from service, studies of service bulletins pertaining to certain wiring systems, and reviews of previously issued ADs requiring repetitive inspections of certain flight control systems, have resulted in valuable information on the cause and prevention of wire degradation due to various contributing factors (e.g., inadequate maintenance, contamination, improper repair, and mechanical damage).

In summary, as a result of the investigations described above, the FAA has determined that corrective action may be necessary to minimize the potential hazards associated with wire and mechanical flight control systems degradation and related causal factors (e.g., inadequate maintenance, contamination, improper repair, and mechanical damage).

Previously Issued AD 96-02-05

On January 17, 1996, the FAA issued AD 96-02-05, amendment 39-9493 (61 FR 6922, February 23, 1996), applicable to certain McDonnell Douglas Model DC-9-10, -20, -30, -40, and -50 series airplanes; Model DC-9-81, -82, -83, and -87 series airplanes; Model MD-88 airplanes; and C-9 airplanes; to require repetitive inspections to detect cracking of the rudder pedals adjuster hub assembly, and replacement of the assembly, if necessary. That AD also provides for an optional terminating action for the repetitive inspections. That action was prompted by several occurrences of failure of the rudder pedals adjuster hub assembly due to broken detent lugs. The requirements of that AD are intended to prevent loss of rudder pedal control and reduction of braking capability.

Actions Since Issuance of AD 96-02-05

Since the issuance of AD 96-02-05, the FAA has determined that long-term continued operational safety will be better assured by design changes to remove the source of the problem, rather than by repetitive inspections. Long-term inspections may not be providing the degree of safety assurance necessary for the transport airplane fleet. This, coupled with a better understanding of the human factors associated with numerous continual inspections, has led us to consider placing less emphasis on inspections and more emphasis on design improvements. Therefore, we now have determined that further rulemaking action is necessary to require a terminating action for the repetitive inspection requirements of AD 96-02-05.

Other Related Rulemaking

This proposed AD is one of a series of actions identified as part of the ATSRAC program initiative to maintain continued operational safety of aging non-structural systems and structural components related to the mechanical flight control systems in transport category airplanes. The program is continuing and the FAA may consider additional rulemaking actions as further results of the review become available.

Explanation of Relevant Service Information

The FAA has reviewed and approved McDonnell Douglas Service Bulletin DC9-27-325, Revision 02, dated December 12, 1995. The service bulletin describes procedures for replacing a magnesium casting hub assembly of the rudder pedal adjuster and bearing in the rudder pedal mechanism between stations X=69.000 and X=120.000 in the flight compartment with a new aluminum assembly and bearing, and reidentifying the rudder pedal adjuster. Accomplishment of the actions specified in the service bulletin is intended to adequately address the identified unsafe condition.

Explanation of Requirements of Proposed Rule

Since an unsafe condition has been identified that is likely to exist or develop on other products of this same type design, the proposed AD would supersede AD 96-02-05 to continue to require repetitive inspections to detect cracking of the rudder pedals adjuster hub assembly, and replacement of the assembly, if necessary. The proposed AD would require a new terminating action for the repetitive inspections. The terminating action would be required to be accomplished in accordance with the service bulletin described previously.

Explanation of Change to Applicability of AD 96-02-05

The applicability of this proposed AD would differ from AD 96-02-05 in that it references McDonnell Douglas Service Bulletin DC9-27-325, Revision 02, dated December 12, 1995 (most current revision of service bulletin), for determining what airplanes are affected by this proposed AD. The applicability of AD 96-02-05 referenced McDonnell Douglas DC-9 Alert Service Bulletin A27-325, Revision 2, dated January 27, 1995. McDonnell Douglas Service Bulletin DC9-27-325 removes six airplanes from the effectivity of McDonnell Douglas DC-9 Alert Service Bulletin A27-325.

Cost Impact

There are approximately 1,845 Model DC-9-10, -20, -30, -40, and -50 series airplanes; Model DC-9-81, -82, -83, and -87 series airplanes; Model MD-88 airplanes; and C-9 airplanes of the affected design in the worldwide fleet. The FAA estimates that 1,086 airplanes of U.S. registry would be affected by this proposed AD.

The inspection that is currently required by AD 96-02-05 takes approximately 3 work hours per airplane to accomplish, at an average labor rate of $60 per work hour. Based on these figures, the cost impact of the currently required actions on U.S. operators is estimated to be $195,480, or $180 per airplane, per inspection cycle.

The new actions that are proposed in this AD action would take approximately 9 work hours per airplane to accomplish, at an average labor rate of $60 per work hour. Required parts would cost approximately $4,314 per airplane. Based on these figures, the cost impact of the proposed requirements of this AD on U.S. operators is estimated to be $5,271,444, or $4,854 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-9493 (61 FR 6922, February 23, 1992), and by adding a new airworthiness directive (AD), to read as follows:

McDonnell Douglas: Docket 2001-NM-206-AD. Supersedes AD 96-02-05, Amendment 39-9493.

Applicability: Model DC-9-10, -20, -30, -40, and -50 series airplanes; Model DC-9-81, -82, -83, and -87 series airplanes; Model MD-88 airplanes; and C-9 series airplanes; as listed in McDonnell Douglas Service Bulletin DC9-27-325, Revision 02, dated December 12, 1995; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent loss of rudder pedals control and reduction of braking capability, accomplish the following:

Restatment of Requirements of AD 97-02-05

Repetitive Inspections and Replacement, If Necessary

(a) For airplanes listed in McDonnell Douglas Alert Service Bulletin A27-325, Revision 1, dated February 3, 1992: Prior to the accumulation of 15,000 landings or within 270 days after January 22, 1993 (the effective date of AD 92-27-07, amendment 39-8441), whichever occurs later, conduct a visual and eddy current inspection to detect cracks of the rudder pedals adjuster hub assembly, part number 4616066, in accordance with McDonnell Douglas DC-9 Alert Service Bulletin A27-325, Revision 1, dated February 3, 1992, or Revision 2, dated January 27, 1995.

(1) If no cracks are detected as a result of the inspections required by this paragraph, repeat the inspections at intervals not to exceed 3,500 landings.

(2) If cracks are detected as a result of the inspections required by this paragraph, prior to further flight, replace the rudder pedal adjuster hub assembly, part number 4616066, with a new assembly having the same part number, in accordance with McDonnell Douglas DC-9 Alert Service Bulletin A27-325, Revision 2, dated January 27, 1995. Thereafter, conduct visual and eddy current inspections of the replacement rudder pedals adjuster hub assembly in accordance with this paragraph.

(b) For airplanes listed in McDonnell Douglas DC-9 Alert Service Bulletin A27-325, Revision 2, dated January 27, 1995, and not subject to paragraph (a) of this AD: Prior to the accumulation of 15,000 landings or within 270 days after March 25, 1996 (the effective date of AD 96-02-05, amendment 39-9493), whichever occurs later, conduct a visual and eddy current inspection to detect cracks of the rudder pedals adjuster hub assembly, part number 4616066, in accordance with McDonnell Douglas DC-9 Alert Service Bulletin A27-325, Revision 1, dated February 3, 1992, or Revision 2, dated January 27, 1995.

(1) If no cracks are detected as a result of the inspections required by this paragraph, repeat the inspections at intervals not to exceed 3,500 landings.

(2) If cracks are detected as a result of the inspections required by this paragraph, prior to further flight, replace the rudder pedals adjuster hub assembly, part number 4616066, with a new assembly having the same part number, in accordance with McDonnell Douglas DC-9 Alert Service Bulletin A27-325, Revision 2, dated January 27, 1995. Thereafter, conduct visual and eddy current inspections of the replacement rudder pedals adjuster hub assembly in accordance with this paragraph.

New Actions Required By This Proposed AD

Replacement and Reidentification

(c) Prior to the accumulation of 15,000 total landings, or within 18 months after the effective date of this AD, whichever occurs later, do the actions specified in paragraphs (c)(1) and (c)(2) of this AD in accordance with the Accomplishment Instructions of McDonnell Douglas Service Bulletin DC9-27-325, Revision 02, dated December 12, 1995. Accomplishment of the these actions constitutes terminating action for the requirements of this AD.

(1) Replace the existing magnesium casting hub assembly of the rudder pedal adjuster, part number (P/N) 4616066-3, and bearing, P/N AN201KP4A, in the rudder pedal mechanism between stations X=69.000 and X=120.000 in the flight compartment with a new aluminum assembly, part number (P/N) 5965435-3, and new bearing, P/N MS27641-4; and

(2) Reidentify rudder pedal adjuster, P/N 5641294-501 or -503, as P/N 5641294-507.

Note 2: Installation of the aluminum rudder pedal adjuster hub assembly per McDonnell Douglas Service Bulletin DC9-27-325, Revision 1, dated November 30, 1994, before the effective date of this AD, is considered acceptable for the requirements of paragraph (c) of this AD.

Alternative Methods of Compliance

(d) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 3: Information concerning the existence of approved alternative methods of compliance with this AD, if any, may be obtained from the Los Angeles ACO.

Special Flight Permits

(e) Special flight permits may be issued in accordance with §§ 21.197 and 21.199 of the Federal Aviation Regulations (14 CFR 21.197 and 21.199) to operate the airplane to a location where the requirements of this AD can be accomplished.

Issued in Renton, Washington, on July 9, 2001.
Vi L. Lipski,
Manager, Transport Airplane Directorate, Aircraft Certification Service.

[FR Doc. 01-17599 Filed 7-20-01; 8:45 am]

BILLING CODE 4910-13-U